DEPARTMENT OF THE INTERIOR

Fish and Wildlife Service

50 CFR Part 17

RIN 1018-AG14

Endangered and Threatened Wildlife and Plants; Reopening of Comment Period and Notice of Availability of Draft Economic Analysis on Proposed Critical Habitat Designation for the Great Lakes Breeding Population of the Piping Plover

AGENCY: Fish and Wildlife Service, Interior.

ACTION: Proposed rule, reopening of comment period and notice of availability of draft economic analysis; correction.

SUMMARY: This document corrects the closing date of the comment period listed in a document published in the Federal Register on September 19, 2000, regarding the reopening of the comment period and notice of availability of draft economic analysis for proposed critical habitat designation for the Great Lakes breeding population of the piping plover. This clarification provides the correct date for the closing of the comment period on the proposed critical habitat designation for the Great Lakes breeding population of the piping plover and the draft economic analysis for the proposed critical habitat designation.

DATES: Comments must be received on or before November 20, 2000.

For Further Information Contact: Laura Ragan @ (612) 713-5157.

Correction

In the document announcing the reopening of the comment period and notice of availability of draft economic analysis for proposed critical habitat designation for the Great Lakes breeding population of the piping plover, 65 FR 56530 in the issue of September 19, 2000, make the following correction in the DATES section. On page 56530 in the 3rd column, correct the date by when comments must be received from “October 19, 2000” to “November 20, 2000.”

Dated: September 21, 2000.
T.J. Miller,
Acting, Assistant Regional Director, Ecological Services, Region 3, Fort Snelling, Minnesota.

[FR Doc. 00-24759 Filed 9-27-00; 8:45 am]

BILLING CODE 4310-55-P